ENVIRONMENTAL PROTECTION AGENCY

40 CFR Part 320

[EPA-HQ-OLEM-2019-0086; FRL-10008-23-OLEM]

RIN 2050-AH05

Financial Responsibility Requirements Under CERCLA Section 108(b) for Facilities in the Chemical Manufacturing Industry; Extension of Comment Period

AGENCY: Environmental Protection Agency (EPA).

ACTION: Proposed rule; extension of comment period.

SUMMARY: The Environmental Protection Agency (EPA) is extending the comment period for the proposed rule entitled “Financial Responsibility Requirements under CERCLA Section 108(b) for Classes of Facilities in the Chemical Manufacturing Industry.” This proposal was published on February 21, 2020, and the public comment period was scheduled to end on April 21, 2020. However, a number of public interest groups have requested additional time to develop and submit comments on the proposal. In response to the request for additional time, EPA is extending the comment period through May 6, 2020.

DATES: Comments must be received on or before May 6, 2020.

ADDRESSES: Submit your comments, identified by Docket ID No. EPA-HQ- SFUND-2019-0086, at http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud or other file sharing system). For additional submission methods, the full EPA public comment policy, information about CBI or multimedia submissions, and general guidance on making effective comments, please visit http://www.epa.gov/dockets/commenting-epa-dockets.

FOR FURTHER INFORMATION CONTACT: For more information on this document, contact Charlotte Mooney, U.S. Environmental Protection Agency, Office of Resource Conservation and Recovery, Mail Code 5303P, 1200 Pennsylvania Ave. NW, Washington, DC 20460; telephone (703) 308-7025 or (email) mooney.charlotte@epa.gov.

SUPPLEMENTARY INFORMATION: On February 21, 2020, EPA published in the Federal Register a proposal to not impose financial responsibility requirements for facilities in the Chemical Manufacturing industry under Section 108(b) of the Comprehensive Environmental Response, Compensation, and Liability Act (CERCLA). Section 108(b) addresses the promulgation of regulations that require classes of facilities to establish and maintain evidence of financial responsibility consistent with the degree and duration of risk associated with the production, transportation, treatment, storage, or disposal of hazardous substances.

The comment period for the proposed rule was scheduled to end on April 21, 2020. Since publication, EPA has received a request from several public interest groups to extend that comment period to allow for additional time to develop comments on the proposed rule due to general disruptions associated with the COVID-19 pandemic.

After considering this request for additional time, EPA has decided to extend the comment period until May 6, 2020.

List of Subjects in 40 CFR Part 320

Environmental protection, Financial responsibility, Hazardous substances, Chemicals.

Dated: April 10, 2020.
Peter Wright,
Assistant Administrator, Office of Land and Emergency Management.

[FR Doc. 2020-07983 Filed 4-16-20; 8:45 am]

BILLING CODE 6560-50-P